DEPARTMENT OF DEFENSE

Office of the Secretary

Proposed Collection; Comment Request

AGENCY: Office of the Assistant Secretary of Defense for Health Affairs.

ACTION: Notice.

In accordance with Section 3506(c)(2)(A) of the Paperwork Reduction Act of 1995, the Office of the Assistant Secretary of Defense for Health Affairs announces the proposed new public information collection and seeks public comment on the provisions thereof. Comments are invited on: (a) Whether the proposed collection of information is necessary for the proper performance of the functions of the agency, including whether the information shall have practical utility; (b) the accuracy of the agency's estimate of the burden of the information collection; (c) ways to enhance the quality, utility, and clarity of the information to be collected; and (d) ways to minimize the burden of the information collection on respondents, including through the use of automated collection techniques or other forms of information technology.

DATES: Consideration will be given to all comments received by July 27, 2004.

ADDRESSES: Written comments and recommendations on the information collection should be sent to Michael Hartzell, Lt. Col., USAF, BSC, Health Program Analysis and Evaluation/TMA, 5111 Leesburg Pike, Suite 810, Falls Church, Virginia, 22041-3206.

Title; Associated Form; and OMB Number: Viability of TRICARE Standard.

Needs and Uses: As mandated by Congress, confidential surveys of civilian physicians will be completed in TRICARE market areas within the United States to determine how many accept new TRICARE Standard patients in each market area. 20 TRICARE market areas in the United States will be conducted each fiscal year until all TRICARE market areas in the United States have been surveyed.

Affected Public: Individuals—Licensed MDs (Medical Doctors) and DOs (Doctor of Osteopathy).

Annual Burden Hours: 5,333.

Number of Respondents: 3,200.

Responses Per Respondent: 1 per person.

Average Burden Per Response: 10 minutes per survey.

Frequency: Once.

SUPPLEMENTARY INFORMATION:

Summary of Information Collection

The Health Program Analysis and Evaluation Directorate (HPAE) under the authority of the Office of the Assistant Secretary of Defense (Health Affairs)/TRICARE Management Activity will undertake an evaluation of the DoD's TRICARE Standard healthcare option. HPAE will collect and analyze data that are necessary to meet the requirements outlined in Section 723 of the National Defense Authorization Act for FY2004. Activities include the collection and analyses of data obtained confidentially from civilian physicians (MDs & DOs) within U.S. TRICARE market areas. Specifically, telephone surveys of civilian providers will be conducted in the TRICARE market areas to determine how many healthcare providers are accepting new patients under TRICARE Standard in each market area. The telephone surveys will be conducted in at least 20 TRICARE market areas in the United States each fiscal year until all market areas in the United States have been surveyed. In prioritizing the order in which these market areas will be surveyed, representatives of TRICARE beneficiaries will be consulted in identifying locations that had historical evidence of access-to-care problems under TRICARE Standard. These areas will receive priority in surveying. Information will be collected telephonically to determine the number of healthcare providers that currently accept TRICARE Standard beneficiaries as patients under TRICARE Standard in each market area. Providers will also be asked if they would accept TRICARE Standard beneficiaries as new patients under TRICARE Standard. Analyses and reports will include all legislative requirements.

Dated: May 21, 2004
L.M. Bynum,
Alternate OSD Federal Register Liaison,

[FR Doc. 04-12114 Filed 5-27-04; 8:45 am]

BILLING CODE 5001-06-M